DEPARTMENT OF TRANSPORTATION

Federal Highway Administration

Notice of Intent To Prepare an Environmental Impact Statement for the Rim of the World Scenic Trail on the San Bernardino National Forest, San Bernardino County, CA

AGENCY: Federal Highway Administration (FHWA) DOT and U.S. Forest Service (USDA).

ACTION: Notice of Intent to prepare an Environmental Impact Statement.

SUMMARY: The Federal Highway Administration and the USDA Forest Service (joint lead agencies) will prepare an Environmental Impact Statement (EIS) on a proposal to construct approximately 44 miles of non-motorized, multi-use trails on National Forest land in San Bernardino County.

DATES: Submit comments on or before August 5, 2002. Public meeting/Open House dates are:

1. July 17, 2002, 6:30 p.m. to 8:30 p.m., Lake Arrowhead, CA.

2. July 18, 2002, 6:30 p.m. to 8:30 p.m., Fawnskin, CA.

The Draft EIS is expected to be filed with the Environmental Protection Agency (EPA) and to be available for public review during the spring of 2003. At that time, EPA will publish a Notice of Availability of the Draft EIS in the Federal Register. The comment period on the Draft EIS will be 45 days from the date the EPA publishes the Notice of Availability in the Federal Register. The Final EIS is scheduled to be completed in the winter of 2003.

ADDRESSES: Address all comments concerning this notice to Gene Zimmerman, Forest Supervisor, San Bernardino National Forest, 1824 S. Commercenter Circle, San Bernardino, CA 92408. E-mail comments may be sent to rimoftheworldcomments@yahoo.com.

Meeting locations are:

1. Lake Arrowhead—Lake Arrowhead Resort, 27984 Highway 189, Lake Arrowhead, CA 92352

2. Fawnskin—Big Bear Discovery Center, 1020 Highway 38, Fawnskin, CA 92333

FOR FURTHER INFORMATION CONTACT: Tay Dam, Senior Transportation Engineer, Federal Highway Administration, (213) 202-3954 or Mike Florey, San Bernardino National Forest Engineer, (909) 884-6634.

SUPPLEMENTARY INFORMATION: Forest visitors and local residents have identified the need for additional non-motorized, multi-user trails in the Big Bear and Back Country Management Areas (MA's) of the San Bernardino National Forest. In addition, the San Bernardino National Forest Plan (Forest Plan) identified the need to increase the miles of trail in these MA's to offer improved non-motorized recreation opportunities. The purpose of this action is to develop a trail system from Silverwood Lake State Recreation Area to the Big Bear area, providing a primitive, backcountry experience with moderate to difficult opportunities. The trail access would be located between Silverwood Lake Recreation Area and Big Bear.

The trail would be three to five feet in width and would provide varying degrees of difficulty. In some areas, the trail would utilize short sections of existing roads. Information and interpretive signs would be placed at appropriate locations along the trail corridor and at access points (e.g. road intersections, trailheads, parking lots, etc.). The trail would include construction of up to 12 trailheads, accommodating three to ten vehicles each. This proposal includes the construction of four spur trails that would provide access for the mountain communities and to several points of interest. These spurs would connect the trail to Green Valley Lake, Butler Peak, Tunnel Two ridge, and Valley of Enchantment/Breezy Point. Alternatives have not been identified at this time. The FHWA and the Forest Service invite public comments on potential alternatives for the trail.

Construction would begin in late fall of 2003 or spring of 2004, with completion of the entire system by 2005.

As additional funding becomes available, the Forest would consider enhancing interpretation opportunities on the trail. The actions would be subject to separate environmental review. Construction of facilities along the trail or at access points (e.g. water and toilets) is not planned at this time.

Authorization

National Environmental Policy Act of 1969 as amended (42 U.S.C. 4321-4346), Council on Environmental Quality Regulations (40 CFR parts 1500-1508); U.S. Department of Agriculture NEPA Policies and Procedures (7 CFR part 1b).

Reviewer's Obligation

The Forest Service believes, at this early stage, it is important to give reviewers notice of several court rulings related to public participation in the environmental review process. First, reviewers of draft environmental impact statements must structure their participation in the environmental review of the proposal so that it is meaningful and alerts the agency to the reviewer's position and contentions. Vermont Yankee Nuclear Power Corp. v. NRDC, 435 U.S. 519, 553 (1978). Also, environmental objections that could be raised at the draft environmental impact stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wisc. 1980). Because of these court rulings, it is very important that those interested in this proposed action participate by the close of the comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewer may wish to refer to the Council on Environmental Quality Regulations for implementing the procedural provisions of the National Environmental Policy Act at 40 CFR 1503.3 in addressing these points.

[Catalog of Federal Domestic Assistance Program Number 20.205, Highway Research, Planning, and Construction. The regulations implementing Executive Order 12372 regarding intergovernmental consultation on Federal programs and activities apply to this program.]

Jeffrey W. Kolb,
Chief, District Operations—South.
Gene Zimmerman,
Forest Supervisor, San Bernardino NF.

[FR Doc. 02-15643 Filed 6-20-02; 8:45 am]

BILLING CODE 4910-22-M